DEPARTMENT OF COMMERCE

Bureau of the Census

[Docket Number 090130099-9106-01]

American Community Survey 5-Year Data Products

AGENCY: Bureau of the Census, Department of Commerce.

ACTION: Notice and request for comments.

SUMMARY: The U.S. Census Bureau has released American Community Survey (ACS) data products in the form of 1-year estimates for 2005, 2006, and 2007, and 3-year estimates for the period of 2005-2007. Annual updates of these products are planned. Specifically, in 2009 and 2010, the Census Bureau will publish 1-year estimates for the 2008 ACS and the 2009 ACS, and 3-year estimates for the 2006-2008 ACS and 2007-2009 ACS, respectively. Beginning in late 2010, the Census Bureau plans to introduce 5-year data products covering the period of 2005-2009. The Census Bureau is proposing to modify its current line of data products to accommodate the 5-year estimates and is requesting comments from current and potential users of ACS data products to help guide this modification. The release of the 5-year estimates will achieve a goal of the ACS to provide small area data similar to the data published after Census 2000, based on the long-form sample. Plans for the production of an ACS Summary File for race, ethnic origin, ancestry, and country of birth, and another for American Indians and Alaska Natives, will be described in a future Federal Register notice.

DATES: Written comments must be submitted on or before April 20, 2009.

ADDRESSES: Direct all written comments to Susan Schechter, Chief, American Community Survey Office, Room 3K276, Mail Stop 7500, Washington, DC 20233-7500.

FOR FURTHER INFORMATION CONTACT: Susan Schechter, Chief, American Community Survey Office, on (301) 763-8950, by e-mail at Susan.Schechter.Bortner@census.gov, or by mail at Room 3K276, Mail Stop 7500, Washington, DC 20233-7500.

SUPPLEMENTARY INFORMATION: The ACS is part of the 2010 Decennial Census Program and provides annually updated, detailed demographic, socioeconomic, and housing information for communities across the United States and Puerto Rico. One goal of the ACS is to provide small area data similar to the data published after Census 2000, based on the long-form sample. This goal will be met with the release of ACS 5-year estimates.

The Census Bureau is proposing to release 5-year estimates using the same set of ACS data products that were produced for the 2005-2007 ACS 3-year data products: detailed tables, summary files, data profiles, narrative profiles, selected population profiles, subject tables, geographic comparison tables, thematic maps, and Public Use Microdata Sample (PUMS) files. Descriptions of each of these data products follow:

Detailed tables and summary files include the most detailed ACS data and crosstabulations of ACS variables.

Data profiles provide separate fact sheets on social, economic, housing, and demographic characteristics.

Narrative profiles provide clear, concise textual descriptions of the data included in the data profiles.

Subject tables include detailed ACS data, organized by subject such as employment, education, and income.

Selected population profiles provide social, economic, and housing characteristics for a large number of groups based on race, ethnicity, country of birth, and ancestry.

Geographic comparison tables allow the comparison of ACS data for a given time period across a variety of geographic areas.

Thematic maps provide graphic displays of the data available from the geographic comparison tables, which compare ACS data for different areas in a given time period.

Public Use Microdata Sample (PUMS) Files provide access to ACS microdata for data users to create summaries that are not available as ACS summary products.

To see the Census Bureau's specific proposal for 5-year data products, please visit http://www.census.gov/acs/www/Downloads/proposal_acs5yearproducts.pdf. This proposal will be effective with the first release of 5-year estimates currently planned in 2010 (2005-2009 ACS) and will continue to be implemented annually. Table 1 of the proposal provides a summary of ACS 5-year data products relative to the current ACS 1-year data products. There are two 1-year data products that are not proposed for the 3-year or 5-year products—ranking tables and comparison profiles:

Ranking tables provide state rankings of estimates across a broad set of social, economic, and housing variables.

Comparison profiles compare ACS estimates for the current year to those from previous years for a specific geographic area.

In general, the 3-year table shells, the layout of a data table without the actual data, are the table shells proposed for the 5-year tables. To view the existing 3-year data products and table shells, please go to the American FactFinder (AFF) Web site. (Users can access the AFF from the Census Bureau's home page at http://www.census.gov/ or from the AFF link on the ACS data release page at http://www.census.gov/acs/www/Products/index.html to view and download each data product.) Table 2 of the proposal, http://www.census.gov/acs/www/Downloads/ proposal_acs5yearproducts.pdf, shows all the geographic summary levels for which we plan to release 5-year data products as well as those summary levels for which we do not plan to release any 5-year products. As was the case for Census 2000, some specific data products will not be produced for certain geographic summary levels. Table 2 summarizes, for selected data products, the specific geographic summary levels proposed for 5-year ACS tabulations. Table 3 of the proposal, http://www.census.gov/acs/www/Downloads/proposal_acs5yearproducts.pdf, summarizes the geographic summary levels proposed for the 5-year thematic maps and identifies the nested geographies that would be available for each of these geographic summary levels. For example, Table 3 shows that thematic maps based on ACS 5-year estimates would allow users to compare census tracts within counties. Table 4 of the proposal summarizes the same type of information for geographic comparison tables. For both thematic maps and geographic comparison tables, the same topics would be covered as are currently available in the corresponding 1-year and 3-year products.

The Census Bureau is also proposing to release new data products that were not produced for Census 2000. These products are based on geography identified in the “Place of Work” and “Residence 1 Year Ago” questions. Table 5 of the proposal identifies the proposed geographic summary levels for the 5-year ACS data products based on “Place of Work” and “Residence 1 Year Ago.”

As is true for all Census Bureau data products, defined standards must be met to ensure the publication of high-quality ACS estimates. These standards are based on estimates of survey coverage, survey (unit) nonresponse, and item nonresponse. While 1-year and 3-year ACS data products must also meet specified statistical reliability standards in order to be published, those standards will not be applied to the 5-year data products. However, certain limitations on the release of 5-year ACS data will be imposed to meet disclosure avoidance requirements. Restrictions on the release required for disclosure avoidance are detailed in the proposal http://www.census.gov/acs/www/Downloads/proposal_acs5yearproducts.pdf.

The Census Bureau seeks input and feedback on ACS data products and requests comments via this Federal Register notice on the suite of data products for the ACS 5-year estimates. We are especially interested in data users' specific feedback on the following four dimensions of these plans:

Block Group Level Geography—As detailed in the proposal at http://www.census.gov/acs/www/Downloads/proposal_acs5yearproducts.pdf, some geographic summary levels, such as block groups, will receive only a subset of the full set of data products. However, the Census Bureau acknowledges the value of block group data for users, especially those in rural areas, to create their own geographies. The Census Bureau also recognizes that the small sample sizes associated with block groups means that many of the estimates at the block group level will not be reliable. To address these concerns, the Census Bureau is considering alternative dissemination options for block group data. Please comment on the option of releasing block group data but not releasing data products for this summary level with the other data products.

Types of Data Products—We propose to release 5-year estimates in detailed tables, summary files, subject tables, data profiles, narrative profiles, selected population profiles, thematic maps, and geographic comparison tables. A 5-year PUMS files is also proposed. Narrative profiles and selected population profiles are not proposed for specific geographic summary levels, such as block groups.

Restrictions Required for Disclosure Avoidance or Statistical Reliability—We propose that restrictions on the release of 5-year estimates be based solely on disclosure avoidance requirements. These are summarized in the proposal at http://www.census.gov/acs/www/Downloads/proposal_acs5yearproducts.pdf. As is true for all Census Bureau data products, standards defined to ensure the publication of high-quality estimates must be met. These standards are based on estimates of survey coverage, survey (unit) nonresponse, and item nonresponse. The ACS 1-year and 3-year estimates were subjected to restrictions based on the reliability of the estimates. The Census Bureau does not propose that these restrictions be applied to the 5-year estimates. Please comment if you believe that the standards used to determine which 1- and 3-year estimates are published should also be applied to the 5-year estimates. In addition, if such limitations are implemented, tell us if you suggest that the full set of estimates be made available to users through some other means.

Periodicity of Data Release—We propose that, as is the case for 1-year estimates and 3-year estimates, ACS 5-year estimates be released annually.

Paperwork Reduction Act

Notwithstanding any other provision of law, no person is required to respond to, nor shall a person be subject to a penalty for failure to comply with, a collection of information subject to requirements of the Paperwork Reduction Act (PRA), unless that collection of information displays a current, valid Office of Management and Budget (OMB) control number. In accordance with the PRA, 44 United States Code, Chapter 35, the OMB approved the ACS under OMB Control Number 0607-0810. We will furnish report forms to organizations included in the survey, and additional copies will be available upon written request to the Director, U.S. Census Bureau, Washington, DC 20233-0001.

Dated: February 26, 2009.
Thomas L. Mesenbourg,
Acting Director, U.S. Census Bureau.

[FR Doc. E9-4803 Filed 3-5-09; 8:45 am]

BILLING CODE 3510-07-P